DEPARTMENT OF TRANSPORTATION

Surface Transportation Board

Household Movers' Disclosure Requirements

AGENCY: Surface Transportation Board, DOT.

ACTION: Notice of OMB approval of information collection.

SUMMARY: Pursuant to the Paperwork Reduction Act, 44 U.S.C. 3501-3519 (PRA) and Office of Management and Budget (OMB) regulations at 5 CFR 1320.10, the Surface Transportation Board has obtained OMB approval for its information collection, Household Movers' Disclosure Requirements. See 78 FR 18421-01 (Mar. 26, 2013).

This collection has been assigned OMB Control No. 2140-0027. Unless renewed, OMB approval expires on August 31, 2016. The display of a currently valid OMB control number for this collection is required by law. Under the PRA and 5 CFR 1320.8, an agency may not conduct or sponsor, and a person is not required to respond to, a collection of information unless the collection displays a currently valid OMB control number.

Jeffrey Herzig,
Clearance Clerk.

[FR Doc. 2013-28612 Filed 11-27-13; 8:45 am]

BILLING CODE 4915-01-P